DEPARTMENT OF THE INTERIOR

Bureau of Land Management

[NV-030-1492-ER]

DEPARTMENT OF DEFENSE

Navy Department

Notice of Availability for the Final Environmental Impact Statement, Bureau of Land Management Carson City and Battle Mountain, Nevada Field Offices and Department of the Navy, Naval Air Station Fallon, Nevada

AGENCY: Bureau of Land Management, Department of the Interior and Naval Air Station Fallon, Nevada, Department of the Navy.

COOPERATING AGENCIES: Federal Aviation Administration, U.S. Fish and Wildlife Service, U.S. Forest Service, Bureau of Indian Affairs, Yomba Shoshone Tribe, Fallon Paiute-Shoshone Tribe, Walker River Paiute Tribe, Nevada Division of Wildlife, Eureka, Lander, and Churchill County Commissions, and Kingston Town Board.

ACTION: Notice of availability of a final environmental impact statement (EIS) for the Naval Air Station Fallon's proposed Fallon Range Training Complex Requirements.

SUMMARY: Pursuant to section 102(2)(C) of the National Environmental Policy Act (NEPA) and 40 CFR 1500-1508 Council on Environmental Quality Regulations (CEQ), notice is given that the Bureau of Land Management (BLM) Carson City and Battle Mountain, Nevada Field Offices and the Department of the Navy (Navy) Naval Air Station Fallon have jointly prepared, with the assistance of a third-party consultant, a Final EIS on the proposed Fallon Range Training Complex Requirements, and has made the document available for public and agency review.

DATES: Comments will be accepted until March 6, 2000.

ADDRESSES: Comments should be sent to: Bureau of Land Management, Carson City Field Office, 5665 Morgan Mill Road, Carson City, NV 89701, Attn: Terri Knutson, Project Manager. Comments may also be sent via electronic mail to the following address: tknutson@nv.blm.gov or via fax: (775) 885-6147. A limited number of copies of the Draft EIS may be obtained at the above BLM Field Office in Carson City, NV, as well as, BLM Battle Mountain Field Office, 50 Bastian Road, Battle Mountain, NV 89820. In addition, the Final EIS is available on the internet via the Carson City Field Office Home Page at: www.nv.blm.gov/carson.

Comments, including names and addresses of respondents, will be available for public review at the above address during regular business hours (7:30 a.m.—5:00 p.m.), Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

FOR FURTHER INFORMATION CONTACT: Terri Knutson, Carson City BLM, at (775) 885-6156 or Gary Foulkes, Battle Mountain BLM, at (775) 635-4060, or John Smith, NAS Fallon, at (775) 426-2101.

After the review period ends for the Final EIS, comments will be analyzed and considered jointly by the BLM and the Navy in preparing the Record of Decision (ROD).

Dated: January 25, 2000.
John Singlaub,
Manager, BLM Carson City.

Dated: January 24, 2000.
RADM T.R. Beard,
Commander, Naval Strike and Air Warfare Center Fallon.

[FR Doc. 00-2223 Filed 2-3-00; 8:45 am]

BILLING CODE 4310-HC-P